DEPARTMENT OF THE INTERIOR

National Park Service

National Register of Historic Places; Notification of Pending Nominations and Related Actions

Nominations for the following properties being considered for listing or related actions in the National Register were received by the National Park Service before October 25, 2008. Pursuant to section 60.13 of 36 CFR Part 60 written comments concerning the significance of these properties under the National Register criteria for evaluation may be forwarded by United States Postal Service, to the National Register of Historic Places, National Park Service, 1849 C St., NW., 2280, Washington, DC 20240; by all other carriers, National Register of Historic Places, National Park Service, 1201 Eye St., NW., 8th Floor, Washington DC 20005; or by fax, 202-371-6447. Written or faxed comments should be submitted by November 25, 2008.

J. Paul Loether,
Chief, National Register of Historic Places/National Historic Landmarks Program.

ALABAMA

Lee County

Sunny Slope, 1031 S. College St., Auburn, 08001116

Mobile County

ILA Hall, 505 Martin Luther King Jr. Ave., Mobile, 08001117

KENTUCKY

Fayette County

New Zion Historic District, 4972 Newtown Pike through 5200 Newtown Pike, and 103-135 New Zion Rd., Georgetown, 08001118

Green County

Creel, Elijah, House, (Green County MRA) E. Columbia Ave., Greensburg, 08001123

Greenup County

Wurtland Union Church, 325 Wurtland Ave., Wurtland, 08001119

Jefferson County

Stoddard Johnston Elementary School, 2301 Bradley Ave., Louisville, 08001122

Marshall County

Cherokee State Park, 542 Kenlake Rd., Hardin, 08001120

Pulaski County

Battle of Mill Springs Historic Areas (Boundary Increase), Four discontinuous areas; two along KY 235 and two along the Cumberland River, Nancy, 08001121

Scott County

New Zion Historic District, 4972 Newtown Pike through 5200 Newtown Pike, and 103-135 New Zion Rd., Georgetown, 08001118

Wayne County

Battle of Mill Springs Historic Areas (Boundary Increase), Four discontinuous areas; two along KY 235 and two along the Cumberland River, Mill Springs, 08001121

MARYLAND

Baltimore Independent city

Park Circle Historic District, Roughly bounded by Overview Ave., Shirley Ave., Cottage Ave., and Henry G. Parks Jr. Circle, Baltimore, 08001124

Cecil County

Gilpin's Falls Covered Bridge, MD Rt. 272, North East, 08001125

MASSACHUSETTS

Dukes County

Tashmoo Springs Pumping Station, 325 W. Spring St., Tisbury, 08001126

Franklin County

Leverett Center Historic District, Amherst, Montague, Depot, and Shutesbury Rds., Leverett, 08001127

Norfolk County

Wollaston Congregational Church, (Quincy MRA) 47-57 Lincoln Ave., Quincy, 08001128

MISSOURI

Pettis County

Jones, Henry, Farmstead, 17000 Hwy. EE, Sedalia, 08001129

St. Louis Independent city

More Automobile Company Building, (Auto-Related Resources of St. Louis, Missouri MPS) 2801 Locust St., St. Louis, 08001130

Peabody Coal Company National Headquarters, 301 N. Memorial Dr., St. Louis, 08001131

NEBRASKA

Butler County

St. Mary of the Assumption Catholic Church, School and Grottoes, 336 W. Pine St., Dwight, 08001132

Hamilton County

United Brethren Church, 1103 K St., Aurora, 08001133

Madison County

First United Presbyterian Church, 104 E. 4th St., Madison, 08001134

NEW MEXICO

Bernalillo County

Relief Model Map of the State of New Mexico, (New Deal in New Mexico MPS) 600 2nd St., NW, Albuquerque, 08001135

Roosevelt County

Roosevelt County Courthouse, (New Deal in New Mexico MPS) 100 W. 2nd St., Portales, 08001136

San Miguel County

Park Springs Ranch Headquarters Complex, 11.6 mi. E. of jct. U.S. 84 and NM 451, Dilia, 08001137

Union County

Gate, Fence and Hollow Tree Shelter, 320 Oak St., Clayton, 08001138

NEW YORK

Erie County

Annunciation School, 257 Lafayette Ave., Buffalo, 08001139

Baptist Church of Springville, The, 37 N. Buffalo St., Springville, 08001140

Buffalo Tennis and Squash Club, 314 Elmwood Ave., Buffalo, 08001141

Curtiss, Harlow C., Building, 204-210 Franklin St., Buffalo, 08001142

Richmond Avenue Methodist-Episcopal Church, 525 W. Ferry St., Buffalo, 08001143

Franklin County

Loon Lake Mountain Fire Observation Station, (Fire Observation Stations of New York State Forest Preserve MPS) Summit of Loon Lake Mountain, Franklin, 08001144

Niagara County

Niagara, The, 201 Rainbow Blvd., Niagara Falls, 08001145

Rockland County

Piermont Railroad Station, 50 Ash St., Piermont, 08001146

Washington County

Home Farm, 591 Co. Rt. 18, East Whitehall, 08001147

OKLAHOMA

Comanche County

Douglass School, 102 E. Gore Blvd., Lawton, 08001148

Grady County

Silver City Cemetery, 6/10th of a mile from Section line on S. side of section 22, T10N, R6W I.M., Tuttle, 08001149

Oklahoma County

Kivlehen House, 525 N. Jackson St., Edmond, 08001150

Osage County

Woolaroc Ranch Historic District, Eight mi. E. of the jct. of St. Hwys. 11 and 123, Barnsdall, 08001151

Tulsa County

Mayo Building, 420 S. Main St., Tulsa, 08001152

Woodward County

Woodward Theater, The, 818 Main, Woodward, 08001153

UTAH

Salt Lake County

Best, Amanda Conk, House, 3622 S. 1100, E., Millcreek, 08001154

Oquirrh School, 350 S. 400, E., Salt Lake City, 08001156

Uintah County

Bank of Vernal, (Vernal—Maeser, Utah MPS) 3 W. Main St., Vernal, 08001155

WASHINGTON

Chelan County

Beebe Springs, Address Restricted, Chelan Falls, 08001157

King County

Nuclear Reactor Building, 3785 Jefferson Rd., NE, Seattle, 08001158

WISCONSIN

Oconto County

Citizens State Bank of Gillett, 137 E. Main St., Gillett, 08001159

[FR Doc. E8-26648 Filed 11-7-08; 8:45 am]

BILLING CODE 4310-70-P